DEPARTMENT OF THE INTERIOR

[FWS-R4-ES-2025-N015; FVHC98220410150-XXX-FF04H00000]

Deepwater Horizon Oil Spill Louisiana and Open Ocean Trustee Implementation Groups; Draft Joint Restoration Plan and Environmental Assessment #1: Wetlands, Coastal, and Nearshore Habitats, Federally Managed Lands, Fish and Water Column Invertebrates, Sea Turtles, Submerged Aquatic Vegetation, and Birds Restoration of the Chandeleur Islands

AGENCY: Department of the Interior.

ACTION: Notice of availability; request for public comments.

SUMMARY: The natural resource trustee agencies for the Louisiana and Open Ocean Trustee Implementation Groups (the TIGs) have prepared the Draft Joint Restoration Plan and Environmental Assessment #1: Wetlands, Coastal, and Nearshore Habitats, Federally Managed Lands, Fish and Water Column Invertebrates, Submerged Aquatic Vegetation, Sea Turtles, and Birds Restoration of the Chandeleur Islands (Draft RP/EA). The Draft RP/EA analyzes projects to partially restore resources injured in the Deepwater Horizon (DWH) oil spill. The Draft RP/EA evaluates a reasonable range of six action alternatives under the Oil Pollution Act (OPA), including criteria set forth in the OPA natural resource damage assessment (NRDA) regulations, and the National Environmental Policy Act (NEPA). A No Action alternative is also analyzed. The total cost to implement the TIGs' two preferred alternatives is approximately $360,000,000. The TIGs are proposing to allocate approximately $247,000,000 in DWH NRDA funds to implement the preferred alternatives and the State of Louisiana is actively pursuing additional funding sources. The TIGs invite comments on the Draft RP/EA.

DATES:

Submitting Comments: The TIGs will consider public comments on the Draft RP/EA received on or before June 14, 2025.

Public Webinar: The TIGs will host a public webinar on June 26, 2025, at 11:00 a.m. central daylight time (CDT). The webinar will include an overview presentation of the Draft RP/EA and a session for general questions regarding the plan. The public will also have an opportunity to provide formal comments during the webinar. The public can find information about, and register for, the webinar at https://www.gulfspillrestoration.noaa.gov/restoration-areas/louisiana. After registering for a webinar, participants will receive a confirmation email with instructions for joining the webinar. Instructions for commenting will be provided during the webinar. Presentation material and factsheets about the projects can be found on the web at https://www.gulfspillrestoration.noaa.gov/restoration-areas/louisiana.

ADDRESSES:

Obtaining Documents: You may download the Draft RP/EA at https://www.gulfspillrestoration.noaa.gov/restoration-areas/louisiana. Alternatively, you may request a USB flash drive containing the Draft RP/EA (see FOR FURTHER INFORMATION CONTACT). Hard copies of the executive summary and fact sheets are also available for review during the public comment period at the locations listed in the following table.

Location | Address | City | State | Zip
St. Tammany Parish Library | 310 W 21st Avenue | Covington | LA | 70433
Terrebonne Parish Library | 151 Library Drive | Houma | LA | 70360
New Orleans Public Library, Louisiana Division | 219 Loyola Avenue | New Orleans | LA | 70112
East Baton Rouge Parish Library | 7711 Goodwood Boulevard | Baton Rouge | LA | 70806
Jefferson Parish Library, East Bank Regional Library | 4747 W Napoleon Avenue | Metairie | LA | 70001
Jefferson Parish Library, West Bank Regional Library | 2751 Manhattan Boulevard | Harvey | LA | 70058
Plaquemines Parish Library | 8442 Highway 23 | Belle Chasse | LA | 70037
St. Bernard Parish Library | 2600 Palmisano Boulevard | Chalmette | LA | 70043
St. Martin Parish Library | 201 Porter Street | St. Martinville | LA | 70582
Alex P. Allain Library | 206 Iberia Street | Franklin | LA | 70538
Vermilion Parish Library | 405 E St. Victor Street | Abbeville | LA | 70510
Martha Sowell Utley Memorial Library | 314 St. Mary Street | Thibodaux | LA | 70301
South Lafourche Public Library | 16241 E Main Street | Cut Off | LA | 70345
Calcasieu Parish Public Library Central Branch | 301 W Claude Street | Lake Charles | LA | 70605
Iberia Parish Library | 445 E Main Street | New Iberia | LA | 70560
Mark Shirley, LSU AgCenter | 1105 West Port Street | Abbeville | LA | 70510
Dauphin Island Sea Laboratory, Admin Building | 101 Bienville Boulevard | Dauphin Island | AL | 36528
Thomas B. Norton Public Library | 221 West 19th Avenue | Gulf Shores | AL | 36542
Mobile Public Library, West Regional Library | 5555 Grelot Road | Mobile | AL | 36606
Bayou La Batre Public Library | 12747 Padgett Switch Road | Irvington | AL | 36544
Okaloosa County Library | 185 Miracle Strip Parkway, SE | Ft. Walton | FL | 32548
Escambia Southwest Branch Library | 12248 Gulf Beach Highway | Pensacola | FL | 32507
Walton County Library, Coastal Branch | 437 Greenway Trail | Santa Rosa Beach | FL | 32459
Bay County Public Library | 898 W 11th Street | Panama City | FL | 32401
Gulf County Public Library | 110 Library Drive | Port St. Joe | FL | 32456
Homosassa Public Library | 4100 S Grandmarch Avenue | Homosassa | FL | 34446
Pinellas Public Library | 1330 Cleveland Street | Clearwater | FL | 33755
Jacaranda Public Library | 4143 Woodmere Park Boulevard | Venice | FL | 34293
Riverdale Branch Library | 2421 Buckingham Road | Fort Myers | FL | 33905
Archie Carr National Wildlife Refuge Barrier Island Visitor Center | 4055 Wildlife Way | Vero Beach | FL | 32963
Nathaniel P. Reed Hobe Sound National Wildlife Refuge Visitor Center | 13640 SE Federal Highway | Hobe Sound | FL | 33455
Biloxi Public Library, Local History and Genealogy Department | 580 Howard Avenue | Biloxi | MS | 39530
Hancock County Library System | 312 Highway 90 | Bay St. Louis | MS | 39520
Gulfport Harrison County Library | 1708 25th Avenue | Gulfport | MS | 39501
Pascagoula Public Library | 3214 Pascagoula Street | Pascagoula | MS | 39567
Port Arthur Public Library | 4615 9th Avenue | Port Arthur | TX | 77672
Library, Texas A&M, Corpus Christi | 6300 Ocean Drive | Corpus Christi | TX | 78412
Rosenberg Library | 2310 Sealy Street | Galveston | TX | 77550

Submitting Comments: You may submit comments on the Draft RP/EA by one of the following methods:

• Internet: https://parkplanning.nps.gov/LAOOTIGRP1. Follow the online instructions for submitting comments.

• U.S. Mail: Coastal Protection and Restoration Authority, 150 Terrace Avenue, Baton Rouge, LA 70802. To be considered, mailed comments must be postmarked on or before the deadline given in DATES.

• During the Public Webinar: Verbal comments may be provided by the public during the webinar.

FOR FURTHER INFORMATION CONTACT: Amy Mathis, at amy_mathis@fws.gov or 251-401-2172. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION:

Introduction

On April 20, 2010, the mobile offshore drilling unit Deepwater Horizon, which was drilling a well for BP Exploration and Production, Inc. (BP), experienced a significant explosion, fire, and subsequent sinking in the Gulf of America, resulting in the release of millions of barrels of oil and other discharges into the Gulf. Under the authority of the Oil Pollution Act of 1990 (OPA; 33 U.S.C. 2701 et seq.), designated Federal and State trustees, acting on behalf of the public, assessed the injuries to natural resources and prepared the Deepwater Horizon Oil Spill Final Programmatic Damage Assessment and Restoration Plan and Final Programmatic Environmental Impact Statement (Final PDARP/PEIS), and subsequent record of decision (ROD), which sets forth the governance structure and process for DWH restoration planning under the OPA's natural resource damage assessment (NRDA). On April 4, 2016, the United States District Court for the Eastern District of Louisiana entered a consent decree resolving civil claims by the Trustees against BP.

The Louisiana TIG is composed of the State of Louisiana Coastal Protection and Restoration Authority, Oil Spill Coordinator's Office, Departments of Environmental Quality, Wildlife and Fisheries, and Natural Resources, the U.S. Environmental Protection Agency (EPA), the U.S. Department of the Interior (DOI), the National Oceanic and Atmospheric Administration (NOAA), and the U.S. Department of Agriculture (USDA). The Open Ocean TIG is composed of the EPA, DOI, NOAA, and the USDA. Each TIG selects and implements restoration projects under that TIG's management authority in accordance with the Consent Decree. The Final PDARP/PEIS, ROD, Consent Decree, and information on the DWH Trustees can be found at https://www.gulfspillrestoration.noaa.gov/restoration-planning/gulf-plan.

Background

On September 9, 2024, the Louisiana and Open Ocean TIGs posted a “Notice of Intent to Conduct Restoration Planning” on the NOAA Gulf Spill Restoration website informing the public that they were beginning to jointly write a draft restoration plan that would build upon previous engineering and design work funded by DWH Trustees to evaluate options for restoration of the Chandeleur Islands, addressing injuries to multiple resources caused by the DWH oil spill. The RP/EA includes a reasonable range of six action alternatives and identifies two preferred alternatives for implementation.

Overview of the Louisiana and Open Ocean TIGs' Draft RP/EA

The Draft RP/EA is being released in accordance with OPA, its implementing NRDA regulations found in the Code of Federal Regulations (CFR) at 15 CFR part 990, the National Environmental Policy Act (42 U.S.C. 4321 et seq.), the Final PDARP/PEIS, and the consent decree. The Draft RP/EA provides OPA and NEPA analyses for a reasonable range of six action alternatives. Four of the action alternatives are habitat improvement alternatives with various island restoration features, including beach and dune fill, marsh fill, sand reservoirs, pocket marshes, and feeder beaches. The preferred habitat improvement alternative would provide the greatest sustained gains in beach/dune and marsh habitat acreage compared to the other habitat improvement alternatives, is the most cost-effective, and has the highest likelihood of success. The plan also analyzes implementation of two fish and water column invertebrates (FWCI) restoration alternatives for the Chandeleur Islands. The preferred FWCI restoration alternative involves education, engagement, and communication with stakeholders to restore FWCI from human-use related impacts from fishing, boating, and ecotourism. The non-preferred FWCI restoration alternative would monitor fisheries populations through telemetry.

The total estimated cost to implement the two preferred alternatives is approximately $360,000,000, of which approximately $247,000,000 is proposed to be funded from the following DWH NRDA restoration type allocations:

• Louisiana TIG Wetlands Coastal Nearshore Habitats: $150,000,000;

• Louisiana TIG Habitat Projects on Federally Managed Lands: $25,693,273;

• Louisiana TIG Submerged Aquatic Vegetation: $22,000,000;

• Louisiana TIG Birds: $30,000,000;

• Louisiana TIG Sea Turtles: $4,000,000;

• Open Ocean TIG Birds: $5,000,000; and

• Open Ocean TIG Fish and Water Column Invertebrates: up to $10,000,000.

Administrative Record

The documents comprising the administrative record for the Draft RP/EA can be viewed electronically at https://www.doi.gov/deepwaterhorizon/adminrecord under folder 6.5.5.2.

Authority

The authority for this action is the Oil Pollution Act of 1990 (33 U.S.C. 2701 et seq.), its implementing Natural Resource Damage Assessment regulations found at 15 CFR part 990, and the National Environmental Policy Act of 1969 (42 U.S.C. 4321 et seq.).

Mary Josie Blanchard,
Department of the Interior, Director, Gulf Coast Restoration.

[FR Doc. 2025-10770 Filed 6-12-25; 8:45 am]

BILLING CODE 4333-15-P